DEPARTMENT OF ENERGY

Federal Energy Regulatory Commission

[Project No. 2169-114]

Notice of Comment Period Extension; Brookfield Smoky Mountain Hydropower LLC, Brookfield Smoky Mountain Hydropower LP

On January 8, 2019, the Commission issued a notice setting February 7, 2019, as the end of the formal period to file comments, motions to intervene, and protests on the transfer of license application for the Tapoco Hydroelectric Project No. 2169. Due to the funding lapse at certain federal agencies between December 22, 2018 and January 25, 2019, the Commission is extending the comment period until February 25, 2019.

Dated: February 11, 2019.
Kimberly D. Bose,
Secretary.

[FR Doc. 2019-02711 Filed 2-19-19; 8:45 am]

BILLING CODE 6717-01-P